NATIONAL SCIENCE FOUNDATION

Privacy Act of 1974; System of Records

AGENCY: Office of the Inspector General, National Science Foundation.

ACTION: Notice of a modified system of records; correction.

SUMMARY: The National Science Foundation (NSF) published a document in the Federal Register of February 15, 2018, concerning revisions to an existing system, NSF-52, “Office of the Inspector General—Investigative Files.”

Correction

In the Federal Register of February 15, 2018, in FR Doc. 2018-03147, on page 6883, in the third column, please correct the following:

Delete in entirety the following: 11. Disclosure may be made to a congressional office from the record of an individual in response to an inquiry from the congressional office made at the request of that individual.

Renumber the previously numbered paragraphs 12, 13, and 14 to 11, 12, and 13 respectively.

On page 6882, in the third column please correct the following:

Insert the words “the outcomes of” into routine use 14 so that it reads “This use not only advances overall transparency, but, by keeping complainants and victims informed about the outcomes of cases in which they are involved, it will encourage individuals to come forward and to cooperate in future investigations.”

FOR FURTHER INFORMATION CONTACT: Dorothy Aronson, Acting Senior Agency Official for Privacy, Office of the Director, 2415 Eisenhower Ave., Alexandria, VA 22314, or daronson@nsf.gov or via telephone at 703-292-8000.

Dated: February 26, 2018.
Suzanne H. Plimpton,
Reports Clearance Officer, National Science Foundation.

[FR Doc. 2018-04159 Filed 2-28-18; 8:45 am]

BILLING CODE 7555-01-P